DEPARTMENT OF LABOR

Office of Disability Employment Policy; Working for Freedom, Opportunity and Real Choice Through Community Employment (WorkFORCE) Grant Initiative: Supporting the Coordination and Delivery of Competitive Employment Opportunities That Facilitate People With Disabilities Living and Working in Their Communities

AGENCY: Office of Disability Employment Policy, Labor.

ACTION: Notice of availability of funds and solicitation for grant applications for WorkFORCE coordinating and action grants) (SGA 02-20 and SGA 02-21).

SUMMARY: This notice announces the availability of $6.0 million in grant funding through the Department of Labor's Working for Freedom, Opportunity and Real Choice through Community Employment (WorkFORCE) Grant Initiative. This new initiative represents the Department of Labor's continued support for increasing and improving employment opportunities that allow individuals with disabilities to: (1) Move from nursing homes or other institutions and residential facilities into the community; (2) continue living in the community; (3) achieve economic self-sufficiency; and (4) attain full access to, and participation in, their communities.

This WorkFORCE Grant Initiative includes two distinct competitive Solicitations for Grant Applications (SGAs), the WorkFORCE Coordinating Grants SGA and the WorkFORCE Action Grants SGA:

• WorkFORCE Coordinating Grants (SGA 02-20): These grants, ranging from $100,000 to $150,000, are to assist in coordinating, strategizing and developing competitive, customized community employment opportunities for individuals with disabilities so that they may live, work, and fully participate in their communities.

• WorkFORCE Action Grants (SGA 02-21): These grants are demonstration grants, ranging from $400,000 to $750,000, to begin or expand the delivery and implementation of competitive, customized community employment opportunities for individuals with disabilities so that they may live, work, and fully participate in their communities.

The application and evaluation/selection criteria for both SGAs are included in this Notice of Funding Availability. State agencies, nonprofit organizations, a consortium of public and private entities, and Indian and Native American Tribal entities, or consortia of Tribes, with the written approval of their tribal council are eligible applicants for the WorkFORCE Coordinating Grants. Nonprofit organizations, either individually or as part of a consortium, are eligible applicants for the WorkFORCE Action Grants.

Deadline for Submission of Grant Applications: To be considered under the Fiscal Year 2002 funding cycle, grant applications must be submitted by the deadlines listed below:

WorkFORCE Coordinating Grants, August 21, 2002

WorkFORCE Action Grants, August 21, 2002

Submission of Applications: Applicants are required to submit one ink-signed original and two copies of the complete application for each grant for which they are applying to the U.S. Department of Labor, Procurement Services Center, Attention Grant Officer, Reference SGA 02-20 or SGA 02-21, Room N-5416, 200 Constitution Avenue, NW., Washington, DC 20210 by no later than 4:45 p.m. Eastern Daylight Savings Time (EDST) on August 21, 2002. Both the WorkFORCE Coordinating Grants and the WorkFORCE Action Grants have the same closing date, August 21, 2002. Applications for either grant received after these closing dates will not be considered.

Late Proposals: All applicants are advised that U.S. mail delivery in the Washington, DC area has been erratic due to concerns involving anthrax contamination. All applicants must take this into consideration when preparing to meet the application deadline. Therefore, it is recommended that you confirm receipt of your application(s) by contacting Cassandra Willis, U.S. Department of Labor, Procurement Services Center, at (202) 693-4570, prior to the closing deadline. Persons who are deaf or hard of hearing may contact the Department via the Federal Relay Service, (800) 877-8339.

Acceptable Methods of Submission

The grant application package must be received at the designated place by the date and time specified or it will not be considered. Any application received at the Office of Procurement Services Center after 4:45 p.m., EDST, August 21, 2002, will not be considered unless it is received before the award is made and:

1. It was sent by registered or certified mail not later than the fifth calendar day before August 21, 2002; or

2. It was sent by U.S. Postal Service Express Mail Next Day Service—Post Office to Addressee, not later than 5 p.m. at the place of mailing two working days, excluding weekends and Federal holidays, prior to August 21, 2002; and/or

3. It is determined by the Government that the late receipt was due solely to mishandling by the Government after receipt at the U.S. Department of Labor at the address indicated.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore, applicants should request the postal clerk place a legible hand cancellation “bull's-eye” postmark on both the receipt and the envelope or wrapper.

The only acceptable evidence to establish the time of receipt at the U.S. Department of Labor is the date/time stamp of the Procurement Services Center on the application wrapper or other documentary evidence or receipt maintained by that office.

Applications sent by other delivery services, such as Federal Express, UPS, etc., will also be accepted; however the Department does not accept dates or date stamps on such packages as evidence of timely mailing. Thus, the applicant bears the responsibility of timely submission.

All applicants are advised that U.S. mail delivery in the Washington, DC area has been erratic due to concerns involving anthrax contamination. All applicants must take this into consideration when preparing to meet the application deadline. Therefore, it is recommended that you confirm receipt of your application by contacting Cassandra Willis, U.S. Department of Labor, Procurement Services Center, telephone (202) 693-4570 (this is not a toll-free number), prior to the closing deadline. Persons who are deaf or hard of hearing may contact the Department via the Federal Relay Service, (800) 877-8339.

FOR FURTHER INFORMATION, CONTACT: Questions concerning this solicitation may be directed to Cassandra Willis, at (202) 693-4570. Persons who are deaf or hard of hearing may contact the Department via the Federal Relay Service, (800) 877-8339. Application announcements or forms will not be mailed. They are published in the Federal Register which may be obtained from your nearest U.S. Government office or public library. In addition, you can obtain up-to-date general information about the WorkFORCE Grants, as well as the complete grant solicitations for both the WorkFORCE Coordinating Grants and the WorkFORCE Action Grants, please check our web site at: http://www2.dol.gov/odep/.

SUPPLEMENTARY INFORMATION:

I. Authority

Consolidated Appropriations Act, 2001, Public Law 106-554, 114 Stat. 2763; 29 U.S.C. 557b; DOL, HHS, Education and Related Appropriations Act, 2002, Public Law 107-116, 115 Stat. 2177.

II. Background

In Olmstead v. L.C., 119 S.Ct. 2176 (1999) (the “Olmstead decision”), the Supreme Court construed Title II of the Americans with Disabilities Act (ADA) to require states to place qualified individuals with mental disabilities in community settings, rather than in institutions, whenever treatment professionals determine that such placement is appropriate, the affected persons do not oppose such placement, and the state can reasonably accommodate the placement, taking into account the resources available to the state and the needs of others with disabilities. The Department of Justice regulations implementing Title II of the ADA require public entities to administer their services, programs, and activities in the most integrated setting appropriate to the needs of qualified individuals with disabilities, 28 CFR 35.130(d).

The Supreme Court stated that institutional placements of people with disabilities who can live in, and benefit from, community settings perpetuates the unwarranted assumptions that persons so isolated are incapable or unworthy of participating in community life and that “...confinement in an institution severely diminishes everyday life activities of individuals, including family relations, social contacts, work options, economic independence, educational advancement, and cultural enrichment.” Olmstead, 119 S.Ct. 2176, 21789, 2187 [emphasis added]. This decision affects not only all persons in institutions and segregated settings, but also people with disabilities who are at-risk of institutionalization, including people with disabilities on waiting lists to receive community based services and supports.

The Court indicated that one way states can show they are meeting their obligations under the ADA and the Olmstead decision is to develop a “comprehensive, effectively working plan for placing qualified people with mental disabilities in less restrictive settings.” Olmstead at 2179. Based on this, almost all the states are in the process of developing, or have already developed such plans.

In support of these state efforts, on June 18, 2001, President Bush issued Executive Order 13217-Community-Based Alternatives for Individuals with Disabilities (the Olmstead Executive Order), which extended application of the Supreme Court's Olmstead decision to all Americans with disabilities, and called upon selected federal agencies, including the U.S. Department of Labor, to help support governors in their implementation of the Olmstead decision. In support of these state efforts and in response to the direction set forth in Executive Order 13217, the U.S. Department of Labor is issuing this SGA for the WorkFORCE Coordinating Grants and WorkFORCE Action Grants.

In March 2002, the U.S. Secretary of Health and Human Services, Tommy G. Thompson, submitted a report to President Bush, titled Delivering on the Promise, on behalf of the Departments of Labor (DOL), Justice (DOJ), Education (ED), Housing and Urban Development (HUD), Transportation (DOT), Veterans Affairs (VA), and the Social Security Administration (SSA) and Office of Personnel Management (OPM). This report detailed actions being planned by the aforementioned agencies to eliminate barriers and promote community integration. See http://www.hhs.gov/newfreedom/final. In this report, DOL and other Federal agencies noted that successful Olmstead planning and implementation efforts must include competitive employment and employment-related supports. Delivering on the Promise identifies several key concerns related to employment that must be addressed, including:

• Fragmentation of existing employment services;

• Isolation and segregation of people with disabilities from “mainstream” or generic employment programs and services;

• Lack of access to health insurance;

• The complexity of existing work incentives that are supposed to encourage and/or support work efforts;

• Lack of control and choice in selecting employment training and service providers;

• Inadequate work opportunities resulting from attitudinal barriers based on historical and erroneous stereotypes; and

• Lack of accurate data on employment of people with disabilities needed to measure progress in eliminating barriers to their employment.

These WorkFORCE grants are meant to offer opportunities that respond to these issues.

Additionally, these grants support the President's New Freedom Initiative. The New Freedom Initiative is designed to increase the number of people with disabilities who enter, re-enter, and remain in the workforce. By emphasizing the need to increase the capacity of Federally-supported employment and training programs to serve people with significant disabilities, including those covered by the Olmstead decision and Executive Order, the current SGA will further the New Freedom Initiative's goals of increased integration of Americans with disabilities into the workforce.

These grants will also support other Federal and state initiatives already underway to make working and living in the community a reality for more people with disabilities, including the state planning and implementation efforts under the U.S. Supreme Court's Olmstead decision; the Olmstead Executive Order; the Department of Health and Human Services Systems Change Grants; the DOL Work Incentive Grants and Customized Employment Grants; and other related grant opportunities and efforts by DOL, the Department of Health and Human Services, and the Social Security Administration under the Workforce Investment Act (WIA) and the Ticket to Work and Work Incentives Improvement Act (TWWIIA).

Many strategies exist for creating and expanding competitive employment opportunities in the community, especially for people with significant disabilities who were for many years considered unemployable, including individuals who have been segregated in institutions, sheltered workshops, nursing homes, and day activity programs. Many related practices and promising strategies have emerged through decades of research and demonstration projects, and through other public and private activities promoting increased choice and self-determination for people with disabilities. These include multiple “customized” employment approaches such as supported employment and supported entrepreneurship; individualized job development; job carving and restructuring; use of personal agents (including individuals with disabilities and family members); development of micro-boards, micro-enterprises, cooperatives and small businesses; and the use of personal budgets and other forms of individualized funding that provide choice and control to the person and promote self-determination.

WIA established comprehensive reform of existing Federal job training programs with and impacted service delivery under the Wagner-Peyser Act, Adult Education and Literacy Act, and the Rehabilitation Act. A number of other Federal programs are also identified as required partners in the One-Stop delivery system in order to provide comprehensive services for all Americans to access the information and resources available to assist them in the development and implementation of their career goals. The purpose of the One-Stop system is to establish programs and providers in co-located and integrated settings that are accessible for individuals and businesses alike in approximately 600 workforce investment areas established throughout the nation.

The One-Stop Centers, which comprise the heart of this system, are in a position to expand employment opportunities for people with disabilities by helping to ensure that the workforce system is accessible both physically and programmatically. To accomplish this expansion, however, additional state and local organizations must be involved. Partners necessary to the success of this endeavor include, but are not limited to, the following: state programs for individuals with cognitive and developmental disabilities; Medicaid; mental health and substance abuse agencies and organizations; transportation and assistive technology providers; Small Business Development Centers; secondary education programs; community colleges; University Centers for Excellence in Developmental Disabilities; foundations; and community-based and faith-based organizations.

Innovative partnerships hold the promise of dramatically increasing both employment and wages for people with disabilities, in part by increasing their choices for integrated, competitive employment, business ownership, entrepreneurship, and other customized employment options.

In response to these considerations and in view of the potential resources described above, ODEP will pursue a two-pronged approach in its new Working for Freedom, Opportunity and Real Choice through Community Employment (WorkFORCE) Grant Initiative:

• Awarding WorkFORCE Coordinating Grants to provide an opportunity to expand state coordination, planning and development efforts related to Olmstead plans.

• Awarding WorkFORCE Action Grants to demonstration projects that develop and/or expand the capacity of communities to support the employment-related needs of individuals with disabilities.

The combination of these efforts will substantially contribute to the President's New Freedom Initiative and will further the objectives of the President's Executive Order 13217.

III. Workforce Coordinating Grants (SGA 02-20)

A. Overview

ODEP will award up to $4.0 million in grant funding for WorkFORCE Coordinating Grants to fund up to twenty-seven grants, with the average grant size ranging between $100,000—$150,000 for one year. These grants are part of the Department of Labor's continued efforts to increase the employment rate of people with disabilities. The purpose of the WorkFORCE Coordinating Grants is to support the development and coordination of competitive, customized employment strategies and opportunities for people with disabilities who want to: (1) Move from nursing homes or other institutions or residential facilities into the community; (2) continue living in the community; (3) achieve economic self-sufficiency; and (4) attain full access to, and participation in, their communities.

Eligible applicants for the WorkFORCE Coordinating Grants are state agencies; nonprofit, faith-based, and community organizations; a consortium of public and private entities; and Indian and Native American Tribal entities, or consortia of Tribes.

In this SGA, ODEP is also announcing the availability of up to $2.0 million in WorkFORCE Action Grants to fund two to four community employment demonstration projects ranging from $400,000-$750,000 per year for up to five years. Applicants for both of these grants must document through a letter signed by their state's governor or functionally equivalent entity, or his/her designee for Olmstead implementation, that the proposed grant activities will be regarded as one of their state's official demonstration program(s) for overall Olmstead implementation. If a particular state is supporting applications for both a WorkFORCE Coordinating and WorkFORCE Action grant, the letter signed by the sanctioning entity must additionally reflect that the state will work with the applicants to ensure that the activities of the two grants are coordinated. In addition, applicants must provide a detailed explanation of the specific procedures and approaches that will be put in place to ensure coordination of grants.

B. Purpose of Coordinating Grants

The WorkFORCE Coordinating Grants are designed to provide states with an opportunity to expand and better coordinate their statewide overall Olmstead planning and implementation efforts, with an emphasis on coordinating the delivery of employment-related services and supports to people with disabilities, including those provided through the workforce development system and its One-Stop Career Center system. The Coordinating Grants are intended to enhance the ability of states, disability organizations, and other relevant entities to engage in strategic statewide coordination, planning and development leading to improved and/or increased opportunities for customized, competitive community employment for people with disabilities.

These coordination efforts must include the involvement of many key partners, especially those associated with the workforce development system, including the One-Stop Centers; those involved in developing and implementing Medicaid buy-ins and other work incentives related to Social Security disability benefits and programs; and those partners involved in HHS Systems Change, Real Choice, and Nursing Home Transition grants, which also target individuals with disabilities who are covered by the Olmstead decision and Executive Order. In addition, coordination must include entities that currently receive relevant DOL grants, including the Work Incentive Grants (WIGs) and the Customized Employment grants, and other appropriate DOL initiatives. See www2.dol.gov/odep/.

The target groups to be served are people with disabilities who are either unemployed or under-employed and:

• In non-work, segregated work or transitioning to work settings; or

• Anticipated to be or are determined to be covered under the Olmstead decision and/or Executive Order and therefore part of the state's Olmstead planning process; or,

• Awaiting employment services and supports following a move from a residential facility, or as part of a plan to move into a community under the Olmstead decision and/or Executive Order.

For purposes of this solicitation, customized employment means individualizing the employment relationship between employees and employers in ways that meet the needs of both. It is based on an individualized determination of the strengths, needs, and interests of the person with a disability, and is also designed to meet the specific needs of the employer. It may include employment developed through job carving, self-employment or entrepreneurial initiatives, or other job development or restructuring strategies that result in job responsibilities being individually customized and negotiated to fit the needs of individuals with a disability. Customized employment assumes the provision of reasonable accommodations and supports necessary for the individual to perform the functions of a job that is individually negotiated and developed.

C. Statement of Work for Coordinating Grants

All applicants shall describe their proposal for coordinating and developing community employment opportunities, including how they will work to ensure that their state's overall Olmstead implementation plan fully addresses providing competitive, customized employment options for people with disabilities who are transitioning to, or living in, the community. Grant applications must include proposed methods for coordinating efforts with a wide variety of state agencies or entities. Some of the agencies and entities that should be included are: (1) State and local Workforce Investment Boards and One-Stop Career Centers; (2) Vocational Rehabilitation; (3) Medicaid, Developmental Disabilities; (4) Mental Health; (5) Substance Abuse; (6) Public Health; (7) Temporary Assistance for Needy Families (TANF); (8) Governors' Developmental Disability Councils, Governors' Committees on Employment of People with Disabilities; (9) University Centers for Excellence in Disabilities; (10) individuals with disabilities; (11) centers for independent living; (12) advocacy and consumer groups; (13) employers; (14) community- and faith-based organizations, family members, and other appropriate organizations and stakeholders.

WorkFORCE coordination activities must include development and implementation of cross-agency strategies that will link employment supports and services into the current overall Olmstead planning process. The activities should be designed to help support the movement of people with significant disabilities from segregated settings to integrated settings, particularly customized, competitive employment opportunities in the community.

The grant will result in the development of coordinated, strategic plans and actions that offer leadership and detail as to how various delivery systems and related agencies and organizations are working, and can work, to better meet the community employment needs of people with significant disabilities. These activities must include strategies to provide training and staff development to increase organizational capacity to serve the target population with needed customized employment services. Coordination with the state's other Olmstead activities and planning efforts is mandatory, as is the institution of objectives measures of evaluation to document project success.

Grantees for the WorkFORCE Coordinating Grants must engage in collaborative activities across relevant stakeholder groups, including both required and non-required WIA partners, persons with disabilities, their parents and other family members, advocates, employers, community rehabilitation agencies, and others, as appropriate. The commitment of key personnel to this effort will be very important to the success of the grant.

Appropriate actions and activities which may be undertaken under the WorkFORCE Coordinating Grants include the following:

1. Identification of the major barriers to integrated and competitive community employment that affect people with significant disabilities who are transitioning into, or already living in, the community;

2. Research to establish or foster the development or expansion of promising practices (including customized employment strategies such as supported employment; supported entrepreneurship; individualized job placement; job carving and restructuring; use of personal agents; development of micro-boards, micro-enterprises, cooperative, and small businesses; use of personal budgets and other forms of individualized funding that provide choice and control and promote self-determination) that have demonstrated increased employment outcomes for people with significant disabilities;

3. Involvement of agencies, organizations, employers, and individuals currently active in the overall Olmstead planning process and those who need to become involved;

4. Development of plans for implementing cross-agency strategies that will assure that employment in integrated, competitive work settings is part of the overall Olmstead plan and is available as an option for the targeted population;

5. Development of strategies for capacity building and linking of relevant resources to the overall workforce development activities in the state;

1. Identification of specific roles and responsibilities that the agencies, both public and private, should fulfill in order to provide increased and improved competitive, customized employment opportunities in the community;

7. Identification of the necessary resources, financial and non-financial, to continue to implement these actions and provide increased and improved competitive customized employment opportunities in the community, in ways that provide increased control and choice for individuals with disabilities;

8. Development of strategies for how existing state Olmstead-related activities will be coordinated and involved in employment programs for the target population;

9. Identification of specific ways people with disabilities and, when appropriate, their family members will be involved in the development and growth of competitive, customized community employment options in non-stereotypical jobs;

10. Identification of specific ways employers and businesses will be involved in developing and supporting increased and improved competitive, customized community employment options;

11. Identification of long-term strategies to pursue for needed systemic changes;

12. Development of Memoranda of Understanding, letters of support, etc., to carry out the coordination activities, including commitments, resources, time lines, outcomes (e.g., how many people will be served);

13. Development of a data collection system designed to document community employment results for people with disabilities who are transitioning from institutions to the community and/or currently living in the community;

Grantees must account for the travel costs associated with sending at least one representative for two days to a mandatory annual ODEP Grantees' training conference, to be held in Washington, DC in their grant budget.

Grantees must also agree to work with ODEP and its various technical assistance efforts in order to share with others what is learned about delivering competitive, customized community employment services to individuals with disabilities.

D. Funding Availability for Coordinating Grants

The Department of Labor anticipates awarding at least 30 grants, with a range of $100,000 to $150,000 each. These awards will be for a one-year period of performance.

E. Eligible Applicants for Coordinating Grants

Eligible applicants for the WorkFORCE Coordinating Grants are state agencies, nonprofit organizations, or a consortium of public and private entities, which have been designated, authorized, and/or approved by the governor of the state, the governmental body's functionally equivalent entity, or the governor or equivalent entity's designee for Olmstead implementation to:

• Lead the state's overall Olmstead implementation effort or

• Develop and/or lead the specific component of the state's overall Olmstead implementation effort that relates to employment.

“State” in this context includes the 50 states, the District of Columbia, Puerto Rico, the U.S. Virgin Islands, Guam, and American Samoa. Indian and Native American Tribal entities, or consortia of Tribes, with the written approval of their tribal council, are also eligible applicants to receive these grants. Grants awarded to tribal entities are to be used in coordinating, strategizing, and developing competitive, customized community employment opportunities for individuals with disabilities in a specific Indian community or covering multiple Tribal entities so that they may live, work and fully participate in their communities. Grants to Indian and Native American tribal grantees must recognize principles of sovereignty and self-governance established under the Indian Self-Determination and Education Assistance Act, allowing for the government-to-government relationship between the Federal and Tribal Governments.

F. Application Contents for Coordinating Grants

General Requirements—Two copies and one ink-signed original of the proposal must be submitted. Proposals must be submitted by the applicant only. There are three required sections of the application. Requirements for each section are provided in this application package.

Part I—Executive Summary

The Executive Summary must be no more than 2 single-spaced pages in length giving a clear summary of the project narrative.

Part II—Project Narrative—(Appendices: Letters of Commitment/Support, Resumes, etc.)

Applicants must include a project narrative that addresses the Statement of Work in Part III, Section C of this notice and the evaluation criteria that are used by reviewers in evaluating the application in Part III, Section G. Applicants that are consortium of public and private entities must include a copy of their consortium's partnership agreement in the Appendices.

You must limit the project narrative to the equivalent of no more than thirty pages using the following standards. This page limit does not apply to Part I, the Executive Summary; Part III, the Project Financial Plan (Budget); and, the Appendices (the assurances and certifications, consortium partnership agreement (where applicable), resumes, bibliography or references, and the letters of support). A page is 8.5″ x 11″ (on one side only) with one-inch margins (top, bottom, and sides). All text in the application narrative, including titles, headings, footnotes, quotations, and captions, as well as all text in charts, tables, figures, and graphs must be double-spaced (no more than three lines per vertical inch); and, if using a proportional computer font, use no smaller than a 12-point font, and an average character density no greater than 18 characters per inch (if using a non-proportional font or a typewriter, do not use more than 12 characters per inch.)

Part III—Project Financial Plan (Budget)

Applications must include a detailed financial plan that identifies by line item the budget plan designed to achieve the goals of this grant. The Financial Plan must contain the SF-424, Application for Federal Assistance (Appendix A) and a Budget Information Sheet SF-424A (Appendix B).

In addition, the budget must include on a separate page a detailed cost analysis of each line item. Justification for administrative costs must be provided. Approval of a budget by DOL is not the same as the approval of actual costs. The individual signing the SF-424 on behalf of the applicant must represent and be able to legally bind the responsible financial and administrative entity for a grant should that application result in an award. The applicant must also include the Assurances and Certifications Signature Page (Appendix C).

G. Evaluation and Selection Criteria for Coordinating Grants

A. Evaluation Criteria

The application must include information of the type described below.

1. Significance of the Proposed Project (20 points)

In determining the significance of the proposed project, the Department considers the following factors:

a. The potential contribution of the proposed project to increase knowledge or understanding of problems, issues, or effective strategies for coordinating state-wide Olmstead planning and implementation efforts, with an emphasis on coordinating the delivery of employment-related services and supports;

b. The extent to which the applicant demonstrates an understanding of the issues the state is currently facing in their overall Olmstead implementation efforts;

c. The extent to which the proposed project is likely to yield findings that may be used by other appropriate agencies and organizations;

d. The extent to which the proposed project involves the development or demonstration of promising new strategies that build on, or are alternatives to, existing strategies;

e. The potential replicability (national significance) of the proposed project or strategies, including, as appropriate, the potential for implementation in a variety of settings; and,

f. The importance or magnitude of the results that is likely to be attained by the proposed project

2. Quality of the Project Design (30 points)

In evaluating the quality of the proposed project design, the Department considers the following factors:

a. The extent to which the goals, objectives, and outcomes to be achieved by the proposed project are clearly specified and measurable;

b. The extent to which the design of the proposed project is appropriate to, and will successfully address, the needs of the target population and other identified needs;

c. The extent to which the design of the proposed project provides procedures and approaches for coordination with key agencies and organizations, identification of critical roles, and a plan for implementation of competitive, customized community employment strategies;

d. The extent to which the proposed project is designed to build capacity and yield results that will extend beyond the period of this grant;

e. The extent to which the proposed project will be coordinated, including demonstrated support from the state governor or designated Olmstead agency and commitment from key organizations and agencies;

f. The extent to which the applicant encourages involvement of people with disabilities and their families, experts and organizations, and other relevant stakeholders in project activities; and,

g. The extent to which performance feedback and continuous improvement are integral to the design of the proposed project.

3. Quality of Project Personnel (15 points)

The Project Narrative must describe the proposed staffing of the project and must identify and summarize the qualifications of the personnel who will carry it out. In addition, the Project Narrative must summarize the qualifications, including relevant education, training and experience of key project personnel as well as the qualifications, including relevant training and experience of project consultants or subcontractors. Resumes must be included in the Appendices.

4. Adequacy of the Budget (10 points)

In evaluating the adequacy of the budget for the proposed project, the Department considers the following factors:

a. The extent to which the budget is adequate to support the proposed project; and

b. The extent to which the costs are reasonable in relation to the objectives, design, and potential significance of the proposed project.

The applicant may include letters of commitment from proposed partners in the Appendix.

5. Quality of the Management Plan (15 points)

In evaluating the quality of the management plan for the proposed project, the Department considers the following factors:

a. The extent to which the management plan for project implementation achieves the objectives of the proposed project on time and within budget, including clearly defined staff responsibilities, and time allocated to project activities, time lines, milestones for accomplishing project tasks and project deliverables;

b. The adequacy of mechanisms for ensuring high-quality products and services from the proposed project; and

c. The extent to which the time commitments of the project director and/or principal investigator and other key project personnel are appropriate and adequate to meet the objectives of the proposed project.

6. Quality of the Project Evaluation (10 points)

In evaluating the quality of the project's evaluation design, the Department considers the following factors:

a. The extent to which the methods of evaluation are thorough, feasible, and appropriate to the goals, objectives, context, and outcomes of the proposed project;

b. The extent to which the methods of evaluation provide for examining the effectiveness of project implementation strategies;

c. The extent to which the methods of evaluation include the use of objective performance measures that are clearly related to the intended outcomes of the project and will produce quantitative and qualitative data;

d. The extent to which the evaluation will provide information to other programs about effective strategies suitable for replication or testing in other settings; and,

e. The extent to which the methods of evaluation measure in both quantitative and qualitative terms, program results and satisfaction of people with disabilities.

B. Selection Criteria

Acceptance of a proposal and an award of federal funds to sponsor any program(s) is not a waiver of any grant requirement and/or procedures. Grantees must comply with all applicable Federal statutes, regulations, administrative requirements and OMB Circulars. For example, the OMB circulars require, and an entity's procurement procedures must require, that all procurement transactions shall be conducted, as practical, to provide open and free competition. If a proposal identifies a specific entity to provide the services, the award does not provide the justification or basis to sole-source the procurement, i.e., to avoid competition.

A panel will objectively rate each complete application against the criteria described in this SGA. The panel recommendations to the Grant Officer are advisory in nature. The Grant Officer may elect to award grants either with or without discussion with the applicant. In situations where no discussion occurs, an award will be based on the signed SF 424 form (see Appendix A), which constitutes a binding offer. The Grant Officer may consider the availability of funds and any information that is available and will make final award decisions based on what is most advantageous to the government, considering factors such as:

1. Findings of the grant technical evaluation panel;

2. Geographic distribution of the competitive applications;

3. Assuring a variety of program designs; and,

4. The availability of funds.

H. Reporting for Workforce Coordinating Grants

The Department of Labor is responsible for ensuring the effective implementation of each competitive grant project in accordance with the provisions of this announcement, the grant agreement and other applicable administrative requirements.

Grantees will be required to submit periodic financial and participation reports under the WorkFORCE Coordinating Grant program. Specifically the following reports will be required:

1. Semi-Annual Reports; The Semi-Annual Report is estimated to take ten hours to complete. The form for the Semi-Annual Report will be provided by ODEP. It is designed to measure progress in reaching the objectives of the Grant.

2. Standard Form 269; Financial Status Report Form, on a quarterly basis.

3. Final Project Report; including an assessment of project performance and outcomes achieved. The final report is estimated to take 20 hours. This report will be submitted in hard copy and on electronic disk following the format and instructions provided by DOL/ODEP. A draft of the final report is due to DOL 45 days before the termination of the grant. The final report is due to DOL 60 days following the termination of the grant.

Applicants for the WorkFORCE Coordinating Grant Program should proceed to Section I, Administration Provisions.

IV. Workforce Action Grants (SGA 02-21)

A. Overview

The U.S. Department of Labor (DOL), Office of Disability Employment Policy (ODEP) announces the availability of up to $2.0 million to award between two to four grants, ranging from $400,000 to $750,000 each, to develop demonstration programs to support the development and coordination of competitive, customized employment opportunities in non-stereotypical jobs for people with disabilities who want to (1) move from nursing homes, residential facilities, or other institutions into the community, (2) continue living in the community, (3) achieve economic self-sufficiency, and (4) attain full access to, and participation in, their communities.

These demonstration grants are for a one-year implementation period with four optional additional years, depending upon project performance and funding availability at varying funding levels. These grants are designed to provide competitive, customized, community employment services that lead to non-stereotypical jobs for people with significant disabilities.

In this SGA, ODEP is also announcing the availability of up to $4.0 million in WorkFORCE Coordinating Grants. Applicants for both of these grants must document through a letter signed by their state's governor or functionally equivalent entity, or his/her designee for Olmstead implementation, that the proposed grant activities will be regarded as one of their state's official demonstration program(s) for overall Olmstead implementation. If a particular state is supporting applications for both a WorkFORCE Coordinating and WorkFORCE Action grant, the letter signed by the state's sanctioning entity must additionally reflect that the state will work with the applicants to ensure that the activities of the two grants are coordinated. In addition, applicants must provide a detailed explanation of the specific procedures and approaches that will be put in place to ensure coordination of grants in their Project Narrative.

These grants are part of the Department of Labor's continued efforts to increase the employment rate of people with disabilities. Eligible applicants for the WorkFORCE Action Grants are nonprofit organizations, either individually or as part of a consortium. Organizations applying to be demonstration sites must have approval and support from the governor, or his/her designee, as one of the state's official Olmstead employment demonstration grant programs.

B. Purpose of Workforce Action Grants

The purpose of the WorkFORCE Action Grants is to demonstrate the employment potential of people with disabilities through techniques for accomplishing competitive employment in non-stereotypical integrated settings, utilizing customized employment strategies. These efforts must include the involvement of many key partners, especially those associated with their area's One-Stop Career Centers.

The target groups to be served are people with disabilities who are either unemployed or under-employed and who are:

• In non-work, segregated work, or transitioning to work settings;

• Expected to be or are determined to be covered under the Olmstead decision and/or Executive Order and therefore part of the state overall Olmstead planning process; or,

• Awaiting employment services and supports following a move from a residential facility, or as part of a plan to move into a community under the Supreme Court's decision in Olmstead and/or Olmstead Executive Order.

For purposes of this solicitation, customized employment means individualizing the employment relationship between employees and employers in ways that meet the needs of both. It is based on an individualized determination of strengths, needs, and interests of the person with a disability, and is also designed to meet the specific needs of the employer. It may include employment developed through job carving, self-employment or entrepreneurial initiatives, or other job development or restructuring strategies that result in job responsibilities being customized and individually negotiated to fit the needs of individuals with a disability. Customized employment assumes the provision of reasonable accommodations and the supports necessary for the individual to perform the functions of a job that is individually negotiated and developed.

If proposals are submitted for both grants from a particular state, the activities of the WorkFORCE Coordinating Grant and the WorkFORCE Action Grant must be coordinated as discussed previously. Coordination and demonstration efforts can be reinforcing activities.

C. Statement of Work for Action Grants

Each applicant for these grants shall describe its plan for expanding capacity for, and provision of, customized employment opportunities to the target groups. Applicants must document through a letter signed by their state's governor, or his/her designee for Olmstead implementation, that the proposed activities will be regarded as one of their state's official demonstration program(s) for overall Olmstead implementation. This letter should also indicate how the lessons learned in the implementation of the WorkFORCE Action Grant demonstration project would be utilized in other communities throughout the state. Grant applications must include proposed methods for coordinating efforts with a wide variety of state agencies or entities. Some of the agencies that should be included are: employment and training agencies; state and local Workforce Investment Boards and their One-Stop Career Centers; Substance Abuse; Vocational Rehabilitation; state Education Agencies; Medicaid; Mental Retardation; Mental Health; Public Health; Temporary Assistance for Needy Families (TANF); Developmental Disability Councils; Independent Living programs; community rehabilitation providers; University Centers for Excellence in Disabilities; family members; consumers; employers; and any other key agencies or constituencies needed to offer a comprehensive service delivery model.

The demonstration grant program being described must address the movement of individuals from segregated settings to competitive, integrated, customized employment opportunities in the community. Grantees must work in coordination with their state's Olmstead lead agency on their state's overall Olmstead plan, and describe how they will contribute to the development of their state's plan and implementation strategy related to employment. Grantees must also integrate their employment strategies with their state's employment programs and services, including existing services available through the One-Stop Centers, the state and local Workforce Investment Boards, and their partners. In addition, they must coordinate their efforts with existing Olmstead activities and programs including grant activities and initiatives funded by the Center for Medicaid and State Operations at the U.S. Department of Health and Human Services (e.g., Systems Change for Community Living Grants, State Medicaid Buy-in programs, and Medicaid Infrastructure Grants), and grant activities funded by the Center for Mental Health Services of the U.S. Department of Health and Human Services, (e.g., Community-Based Care Services for People with Psychiatric Disabilities).

Grantees must develop employment opportunities in a variety of occupations and industries based on the strengths, needs, and desires of the individual with a disability, including self-employment and entrepreneurship where appropriate. Services and supports must be organized in ways that provide informed choice and promote self-determination. In addition, grantees must establish employer involvement; track and respond to customer service and satisfaction for both persons with disabilities and employers; and provide services, including follow-up services, to ensure job retention and career development.

Grantees should establish partnerships and linkages with other relevant state entities and programs (such as Medicaid, mental health, substance abuse, transportation, State Councils on Developmental Disabilities), as well as Small Business Development Centers, community colleges, benefits counseling and assistance programs, and lending and financial institutions, whose expertise, services, and/or funds could contribute to employment services and supports needed by the Olmstead population in order to secure competitive, customized community employment outcomes.

Grantees must educate relevant stakeholders and systems personnel about changes needed to increase integrated, customized community employment outcomes for individuals with disabilities.

Grantees must consider the usefulness of increasing the availability of personal agents and job development personnel offering customized services through customer-controlled approaches that result in customized employment. One possible area of focus could include demonstrating the effectiveness of paying family members and/or other individuals with disabilities to serve as personal agents when selected by the individual with a disability to assist in negotiating and implementing employment plans and services. Grantees must incorporate use of funds leveraged across several systems available to people with disabilities through personal accounts or personal budgets.

Grantees may use funds in a flexible manner, as determined appropriate by input from stakeholders and identified needs, so long as requirements for outcome and evaluation data and other requirements of Federal statutes, regulations, administrative requirements, and OMB circulars and the requirements delineated in this SGA are met.

All grantees must agree to cooperate with an independent evaluation to be conducted by the DOL. DOL will arrange for and conduct this independent evaluation of the outcomes, impacts, and accomplishments of each funded grant. Grantees must agree to make available records on all parts of grant activity, including participant employment and wage data, and to provide access to personnel, as specified by the evaluator(s), under the direction of the Department.

Grantees must also agree to work with ODEP in its various technical assistance efforts in order to freely share with others what is learned about delivering customized employment services to the Olmstead population. Grantees also must agree to collaborate with other research institutes, centers, studies, and evaluations that are supported by DOL and other relevant Federal agencies.

D. Funding Availability for Action Grants

The Department of Labor anticipates awarding two to four grants, with a range of $400,000 to $750,000 each. These awards will be for one-year period of performance and may be renewed annually up to four additional years for a total of five years depending upon the availability of funds and the efficacy of the grant activities, established by independent reviews conducted by the Department of Labor or its designee. Proposals must include budgetary information for a five-year period. It is envisioned that if funding is continued for the full five years, the funding for years four and five will be at successfully lower rates, with funding during year four at 80 percent of the third year funds, and, at 60 percent during year five. Grantees are expected to use this grant as seed money to develop other public and private resources in order to ensure sustainability of grant activities following completion of the funding period. Funds may not be used for modifying buildings or equipment for physical or communication accessibility, although the strategic planning should address how resources will be leveraged for such purposes from other sources, as appropriate.

E. Eligible Applicants for Action Grants

Eligible applicants for these demonstration grants are non-profit organizations. Applicants must document, via a letter signed by their state's governor, or his/her designee for overall Olmstead implementation, that the proposed grant activities will be regarded as an official demonstration program playing a vital role in their state's Olmstead employment implementation effort(s). Moreover, this letter must describe how the lessons learned under this grant will be utilized to benefit other communities throughout the state, and thereby provide expanded competitive, customized employment options for people who are covered under the Olmstead decision and Executive Order.

F. Application Contents

General Requirements—Two copies and one ink-signed original of the proposal must be submitted. Proposals must be submitted by the applicant only. There are three required sections of the application. Requirements for each section are provided in this application package.

Part I—Executive Summary

The Executive Summary must be no more than two single-spaced pages in length giving a clear summary of the project narrative.

Part II—Project Narrative—(Appendices: Letters of Commitment/Support, Resumes, etc.)

Applicants must include a project narrative that addresses the Statement of Work in Part IV, Section C of this notice and the evaluation criteria that are used by reviewers in evaluating the application in Part IV, Section G. Applicants that are consortium entities must include a copy of the consortium's partnership agreement in the Appendices.

You must limit the project narrative to the equivalent of no more than 75 pages using the following standards. This page limit does not apply to Part I, the Executive Summary; Part III, the Project Financial Plan (Budget); and, the Appendices (the assurances and certifications, resumes, bibliography or references, the letters of support, and consortium partnership agreement where applicable). A page is 8.5″ x 11″ (on one side only) with one-inch margins (top, bottom, and sides). All text in the application narrative, including titles, headings, footnotes, quotations, and captions, as well as all text in charts, tables, figures, and graphs must be double-spaced (no more than three lines per vertical inch); and, if using a proportional computer font, use no smaller than a 12-point font, and an average character density no greater than 18 characters per inch (if using a non-proportional font or a typewriter, do not use more than 12 characters per inch.)

Part III—Project Financial Plan (Budget)

Applications must include a detailed financial plan that identifies by line item the budget plan designed to achieve the goals of this grant. The Financial Plan must contain the SF-424, Application for Federal Assistance (Appendix A) and a Budget Information Sheet SF-424A (Appendix B).

In addition, the budget must include on a separate page a detailed cost analysis of each line item. Justification for administrative costs must be provided. Approval of a budget by DOL is not the same as the approval of actual costs. The individual signing the SF-424 on behalf of the applicant must represent and be able to legally bind the responsible financial and administrative entity for a grant should that application result in an award. The applicant must also include the Assurances and Certifications Signature Page (Appendix C).

F. Evaluation Criteria

A. Evaluation Criteria

The application must include information of the type described below.

1. Significance of the Proposed Project (20 points)

In determining the significance of the proposed project, the Department considers the following factors:

a. The potential contribution of the proposed project to increase knowledge or understanding of problems, issues, or effective strategies for addressing the development and/or enhancing the capacity of the One-Stop Career Center system or other potential partners to use customized employment strategies to increase employment, choice and wages, and influence systems change;

b. The extent to which the applicant demonstrates an understanding of the issues the state and proposed geographic area are currently facing in their overall Olmstead implementation efforts;

c. The extent to which the proposed project is likely to yield findings that may be used by other appropriate agencies and organizations;

d. The extent to which the proposed project involves the development or demonstration of promising new strategies that build on, or are alternatives to, existing strategies;

f. The extent to which the promising practices of the proposed project are to be disseminated in ways that will enable others to use the information or strategies;

g. The potential replicability (national significance) of the proposed project or strategies, including, as appropriate, the potential for implementation in a variety of settings; and,

h. The importance or magnitude of the results, which are likely to be attained by the proposed project.

2. Quality of the Project Design (30 points)

In evaluating the quality of the proposed project design, the Department considers the following factors:

a. The extent to which the goals, objectives, and outcomes to be achieved by the proposed project are clearly specified and measurable;

b. The extent to which the design of the proposed project is appropriate to, and will successfully address, the needs of the target population and other identified needs and the quality of the applicant's plans for recruiting and retaining the target population;

c. The extent to which the design of the proposed project provides procedures and approaches for collaboration and coordination with key agencies and organizations, identification of critical roles, and a plan for implementation of competitive, customized community employment strategies;

d. The extent to which the proposed project is designed to build capacity and yield results that will extend beyond the period of this grant and the quality of the applicant's plans for implementing the project's activities in years four and five when Federal fending will be reduced;

e. The extent to which the proposed project will be coordinated, including demonstrated support from the state governor or designated Olmstead agency and commitment from key organizations, employers, and agencies;

f. The extent to which the applicant encourages involvement of people with disabilities and their families, experts and organizations, and other relevant stakeholders in project activities; and,

g. The extent to which performance feedback and continuous improvement are integral to the design of the proposed project.

3. Quality of Project Personnel (15 points)

The Project Narrative must describe the proposed staffing of the project and must identify and summarize the qualifications of the personnel who will carry it out. In addition, the Project Narrative must summarize the qualifications, including relevant education, training and experience of key project personnel as well as the qualifications, including relevant training and experience of project consultants or subcontractors. Resumes must be included in the Appendices.

4. Adequacy of the Budget (10 points)

In evaluating the adequacy of the budget for the proposed project, the Department considers the following factors:

a. The extent to which the budget is adequate to support and sustain the proposed project activities over the projected five-year period; and,

b. The extent to which the costs are reasonable in relation to the objectives, design, and potential significance of the proposed project.

The applicant may include letters of commitment from proposed partners in the Appendix.

5. Quality of the Management Plan (15 points)

In evaluating the quality of the management plan for the proposed project, the Department considers the following factors:

a. The extent to which the management plan for project implementation achieves the objectives of the proposed project on time and within budget, including clearly defined staff responsibilities, and time allocated to project activities, time lines, milestones for accomplishing project tasks and project deliverables;

b. The adequacy of mechanisms for ensuring high-quality products and services from the proposed project; and,

c. The extent to which the time commitments of the project director and/or principal investigator and other key project personnel are appropriate and adequate to meet the objectives of the proposed project.

6. Quality of the Project Evaluation (10 points)

In evaluating the quality of the project's evaluation design, the Department considers the following factors:

a. The extent to which the methods of evaluation are thorough, feasible, and appropriate to the goals, objectives, context, and outcomes of the proposed project;

b. The extent to which the methods of evaluation provide for examining the effectiveness of project implementation strategies;

c. The extent to which the methods of evaluation include the use of objective performance measures that are clearly related to the intended outcomes of the project and will produce quantitative and qualitative data;

d. The extent to which the evaluation will provide information to other programs about effective strategies suitable for replication or testing in other settings; and,

e. The extent to which the methods of evaluation measure in both quantitative and qualitative terms, program results and satisfaction of people with disabilities.

B. Selection Criteria

Acceptance of a proposal and an award of federal funds to sponsor any program(s) is not a waiver of any grant requirement and/or procedures. Grantees must comply with all applicable Federal statutes, regulations, administrative requirements, and OMB Circulars. For example, the OMB circulars require, and an entity's procurement procedures must require, that all procurement transactions shall be conducted, as practical, to provide open and free competition. If a proposal identifies a specific entity to provide the services, the award does not provide the justification or basis to sole-source the procurement, i.e., to avoid competition.

A panel will objectively rate each complete application against the criteria described in this SGA. The panel recommendations to the Grant Officer are advisory in nature. The Grant Officer may elect to award grants either with or without discussion with the applicant. In situations where no discussion occurs, an award will be based on the signed SF 424 form (see Appendix A), which constitutes a binding offer. The Grant Officer may consider the availability of funds and any information that is available and will make final award decisions based on what is most advantageous to the government, considering factors such as:

1. Findings of the grant technical evaluation panel

2. Geographic distribution of the competitive applications;

3. Assuring a variety of program designs; and,

4. The availability of funds.

H. Reporting for Workforce Action Grants

The Department of Labor is responsible for ensuring the effective implementation of each competitive grant project in accordance with the provisions of this announcement, the grant agreement, and other applicable administrative requirements. Applicants should assume that DOL staff or their designees will conduct at least one on-site project review. In addition, all grantees will be expected to provide information on individuals with disabilities securing employment through use of customized strategies (including information on types of jobs, wages, and benefits secured by specific individuals with disabilities, and other areas addressed through the linkages and networks facilitated by project activities).

Grantees will be required to submit periodic financial and participation reports. Specifically the following reports will be required:

1. Quarterly reports; The quarterly report is estimated to take ten hours to complete. The form for the Quarterly Report will be provided by ODEP. The Department will work with the grantee to help refine the requirements of the report, which will, among other things, include measures of ongoing analysis for continuous improvement and customer satisfaction.

2. Standard Form 269; Financial Status Report Form, on a quarterly basis.

3. Final Project Report; including an assessment of project performance and outcomes achieved. The final report is estimated to take 20 hours. This report will be submitted in hard copy and on electronic disk using a format and following instructions, which will be provided by the Department. A draft of the final report is due to the Department 45 days before the termination of the grant. The final report is due to the Department 60 days following the termination of the grant

DOL will arrange for and conduct an independent evaluation of the outcomes, impacts, and accomplishments of each funded project. Grantees must agree to make available records on all parts of project activity, including participant employment and wage data, and to provide access to personnel, as specified by the evaluator(s), under the direction of the Department. This independent evaluation is separate from the ongoing evaluation for continuous improvement required of the grantee for project implementation.

I. Administration Provisions (Applicable to Both SGAs)

A. Administrative Standards and Provisions

1. The WorkFORCE Coordinating Grants awarded under this SGA are subject to the following:

• 29 CFR Part 95—Grants and Agreements With Institutions of Higher Education, Hospitals, and Other Non-Profit Organizations, and With Commercial Organizations, Foreign Governments, Organizations Under the Jurisdiction of Foreign Governments, and International Organizations;

• 29 CFR Part 96—Audit Requirements for Grants, Contracts and Other Agreements;

• 29 CFR Part 97 “ Uniform Administrative Requirement for Grants and Cooperative Agreements to State and Local Governments

2. The WorkFORCE Action Grants awarded under this SGA shall be subject to the following:

• 29 CFR Part 95—Grants and Agreements With Institutions of Higher Education, Hospitals, and Other Non-Profit Organizations, and With Commercial Organizations, Foreign Governments, Organizations Under the Jurisdiction of Foreign Governments, and International Organizations;

• 29 CFR Part 96—Audit Requirements for Grants, Contracts, and Other Agreements.

B. Allowable Costs

Determinations of allowable costs for both the WorkFORCE Coordinating and Action Grants shall be made in accordance with the following applicable Federal cost principles:

• Nonprofit Organizations—OMB Circular A-122

• State and Local Government—OMB Circular A-87

Profit will not be considered an allowable cost in any case.

C. Grant Non-Discrimination Assurances

As a condition of the awards, applicants for both the WorkFORCE Coordinating and Action Grants must certify that they will comply fully with the nondiscrimination and equal opportunity provisions of the following laws:

29 CFR Part 31—Nondiscrimination in Federally-assisted programs of the Department of Labor, effectuation of Title VI of the Civil Rights Act of 1964.

29 CFR Part 32—Nondiscrimination on the Basis of Disability in Programs and Activities Receiving or Benefiting from Federal Assistance. (Implementing section 504 of the Rehabilitation Act, 29 U.S.C. 794)

29 CFR Part 36—Nondiscrimination on the Basis of Sex in Education Programs or Activities Receiving Federal Financial Assistance. (Implementing title IX of the Education Amendments of 1972, 20 U.S.C. 1681 et seq.)

29 CFR Part 37—Nondiscrimination and Equal Opportunity Provisions of the Workforce Investment Act of 1998 (WIA), (Implementing Section 188 of the Workforce Investment Act, 29 U.S.C. 2938)

The applicant must include assurances and certifications that it will comply with these laws in its grant application. The assurances and certifications are attached as Appendix C.

Signed at Washington, DC this 16th day of July, 2002.
Lawrence J. Kuss,
Grant Officer.

Appendix A. Application for Federal Assistance, Form SF 424

Appendix B. Budget Information Sheet, Form SF 424A

Appendix C. Assurances and Certifications Signature Page

BILLING CODE 4510-CX-P

[FR Doc. 02-18424 Filed 7-19-02; 8:45 am]

BILLING CODE 4510-CX-C